DEPARTMENT OF TRANSPORTATION

Federal Railroad Administration

Petition for Waiver of Compliance

In accordance with part 211 of title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Blacklands Railroad

[Docket Number FRA-2000-8366]

The Blacklands Railroad (BLR) of Sulphur Springs, Texas, has petitioned for a permanent waiver of compliance for one locomotive from the requirements of Safety Glazing Standards, 49 CFR part 223, which requires certified glazing. The BLR is located in Sulphur Springs, Texas. The BLR states that this locomotive is used in light switching service and operates over 65 miles of track, from Greenville, TX, through Commerce, Sulphur Springs, TX. It also states that it has an additional 10 miles of trackage rights over the Union Pacific Railroad for interchange in their Mt. Pleasant yard. The average track apeed is 10-15 miles per hour with a maximum speed of 20 miles per hour.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2000-8366) and must be submitted in triplicate to the Docket Clerk, DOT Central Docket Management Facility, Room P1-401, Washington, DC 20590-0001. Communications received within 45 days of the date will be considered as far as practicable. All written communications concerning these proceedings are available for examination during regular business hours (9:00 a.m.-5:00 p.m.) at DOT Central Docket Management Facility, Room P1-401 (Plaza Level), 400 Seventh Street SW., Washington, DC. All documents in the public docket are also available for inspection and copying on the internet at the facility's Web site at http://dms.dot.gov.

Issued in Washington, DC, on January 11, 2001.
Grady C. Cothen, Jr.,
Deputy Associate Administrator for Safety Standards and Program Development.

[FR Doc. 01-1556 Filed 1-17-01; 8:45 am]

BILLING CODE 4910-06-P